DEPARTMENT OF COMMERCE

International Trade Administration

[A-552-818]

Certain Steel Nails From the Socialist Republic of Vietnam: Preliminary Results and Partial Rescission of the Antidumping Duty Administrative Review; 2014-2016

AGENCY: Enforcement and Compliance, International Trade Administration, Commerce.

SUMMARY: The Department of Commerce (the Department) is conducting an administrative review of the antidumping duty order on certain steel nails from the Socialist Republic of Vietnam (Vietnam). The period of review (POR) is December 29, 2014, through June 30, 2016. The Department preliminarily determines that Truong Vinh Ltd. (Truong Vinh), Rich State, Inc. (Rich State), and Dicha Sombrilla Co., Ltd. (Dicha Sombrilla) did not demonstrate their eligibility for a separate rate and are, therefore, part of the Vietnam-wide entity. Further, because Mid Continent Steel & Wire, Inc. (the petitioner) withdrew its request for review of eight companies, we are rescinding the administrative review with regard to them. Interested parties are invited to comment on these preliminary results.

DATES: Effective June 6, 2017.

FOR FURTHER INFORMATION CONTACT: Chelsey Simonovich or Mark Flessner, AD/CVD Operations, Office VI, Enforcement and Compliance, International Trade Administration, Department of Commerce, 1401 Constitution Avenue NW., Washington, DC 20230; telephone: (202) 482-1979 or (202) 482-6312, respectively.

SUPPLEMENTARY INFORMATION:

Background

On July 13, 2015, the Department published in the Federal Register the antidumping duty order on certain steel nails from Vietnam.¹ On July 5, 2016, the Department published in the Federal Register an opportunity to request administrative review of the Order.² The Department received requests for a review of 11 companies.³ On September 12, 2016, the Department published in the Federal Register a notice of initiation of this review, covering the above-referenced companies.⁴ On September 28, 2016, the Department placed entry data from U.S. Customs and Border Protection (CBP) on the record of this review.⁵ On October 18, 2016, the Department issued its antidumping duty questionnaires to Truong Vinh and Rich State. On November 8, 2016, both companies, in a joint submission, stated that neither intended to respond to the Department's questionnaires.⁶

¹ See Certain Steel Nails from the Republic of Korea, Malaysia, the Sultanate of Oman, Taiwan, and the Socialist Republic of Vietnam: Antidumping Duty Orders, 80 FR 39994 (July 13, 2015) (the Order).

² See Antidumping or Countervailing Duty Order, Finding, or Suspended Investigation; Opportunity to Request Administrative Review, 81 FR 43584 (July 5, 2016).

³ See Letter from Amifast Corporation, “Amifast Corporation; Request for Administrative Review; Case No. A-522-818; Antidumping Duty Order on Steel Nails from the Socialist Republic of Vietnam,” dated August 1, 2016. See also Letter from Petitioner, “Certain Steel Nails from the Socialist Republic of Vietnam: Request for Administrative Reviews,” dated August 1, 2016. See also Letter from Olympic Manufacturing Group, “Request for Administrative Review and Request to Defer Administrative Review of the Antidumping Duty Order on Steel Nails from the Socialist Republic of Vietnam (A-552-818) (POR: December 29, 2014—June 30, 2016),” dated August 1, 2016. See also Letter from Truong Vinh, “Request for Administrative Review and Request to Defer Administrative Review of the Antidumping Duty Order on Steel Nails from the Socialist Republic of Vietnam (A-552-818) (POR: December 29, 2014—June 30, 2016),” dated August 1, 2016.

⁴ See Initiation of Antidumping and Countervailing Duty Administrative Reviews, 81 FR 62720 (September 12 2016) (Initiation Notice).

⁵ See Memorandum, “Certain Steel Nails from Vietnam: U.S. Customs and Border Protection Information for 12/29/14-6/30/2016 Review Period,” dated September 28, 2016.

⁶ See Letter from Truong Vinh and Rich State, “Truong Vinh Ltd. and Rich State Inc., Questionnaire Response, First Annual Administrative Review of the Antidumping Duty Order on Steel Nails from the Socialist Republic of Vietnam, (A-552-818),” dated November 8, 2016. Therein, Truong Vinh and Rich State indicated that they believe that their zinc anchors would be found outside of the scope of the Order based on an ongoing scope proceeding. As such, Truong Vinh and Rich State stated that they would not respond to the Department's October 18, 2016, request for information, and that this letter constituted their full response to sections A, C, and D of the Department's questionnaire. Neither company submitted a separate rate application.

Scope of the Order

The merchandise covered by this order is certain steel nails having a nominal shaft length not exceeding 12 inches. Certain steel nails subject to this order are currently classified under HTSUS subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Certain steel nails subject to this order also may be classified under HTSUS subheadings 7907.00.60.00, 8206.00.00.00 or other HTSUS subheadings. While the HTSUS subheadings are provided for convenience and customs purposes, the written description of the scope of this order is dispositive. A full description of the scope of the order is contained in the Preliminary Decision Memorandum.⁷ The Preliminary Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Preliminary Decision Memorandum can be accessed directly on the internet at http://enforcement.trade.gov/frn/. The signed Preliminary Decision Memorandum and the electronic versions of the Preliminary Decision Memorandum are identical in content.

⁷ See Memorandum, “Decision Memorandum for Preliminary Results of Antidumping Duty Administrative Review, 2014-2016: Certain Steel Nails from the Socialist Republic of Vietnam,” dated concurrently with, and hereby adopted by, this notice (Preliminary Decision Memorandum).

Partial Rescission of Administrative Review

On October 5, 2016, the petitioner withdrew its request for review with respect to the following eight companies: Astrotech Steels Private Limited; Blue Moon Logistics Private Ltd.; Bollore Logistics Vietnam Co. Ltd.; Dahnay Logistics Private Ltd; FGS Logistics Co. Ltd.; Honour Lane Shipping Ltd; SDV Vietnam Co. Ltd.; and United Nail Products Co. Ltd.⁸ No other parties requested review of these eight companies. In response to the petitioner's timely filed withdrawal request, we are rescinding this administrative review, pursuant to 19 CFR 351.213(d)(1),⁹ with respect to the above-named companies.

⁸ See Petitioner's Review Request Withdrawal Letter.

⁹ See the Preliminary Decision Memorandum, at the section entitled, “Partial Rescission of Administrative Review.”

Vietnam-Wide Entity

The Vietnam-wide entity will not be under review unless a party specifically requests, or the Department self-initiates, a review of the entity.¹⁰ Because no party requested a review of the Vietnam-wide entity in this review, nor did the Department self-initiate a review of the Vietnam-wide entity, the entity is not under review and the entity's rate (i.e., 323.99 percent) is not subject to change. In this administrative review, a review was requested for Truong Vinh, Rich State, and Dicha Sombrilla, but none of these companies filed a separate rate application, separate rate certification, or no-shipment letter. Accordingly, the Department considers Truong Vinh, Rich State, and Dicha Sombrilla to be part of the Vietnam-wide entity.

¹⁰ See 19 CFR 351.309(c)(1)(ii).

Methodology

The Department is conducting this review in accordance with section 751(a)(1)(B) of the Tariff Act of 1930, as amended (the Act). For a full description of the methodology underlying our conclusions, see the Preliminary Decision Memorandum.

Preliminary Results of Review

The Department preliminarily determines that the following weighted-average dumping margins exist for the period December 29, 2014, through January 30, 2016:

Company | Weighted- average dumping margins (percent)
Dicha Sombrilla Co., Ltd | 323.99
Rich State, Inc | 323.99
Truong Vinh Ltd | 323.99

Disclosure and Public Comment

Normally, the Department discloses to interested parties the calculations performed for the preliminary results within five days of the publication of this notice in accordance with 19 CFR 351.224(b). However, because the Department preliminarily applied the Vietnam-entity margin to the mandatory respondents in this administrative review, there are no calculations to disclose. Interested parties may submit case briefs not later than 30 days after the date of publication of this notice in the Federal Register.¹¹ Rebuttal briefs, limited to issues raised in the case briefs, may be filed not later than five days after the date for filing case briefs.¹² Parties who submit case briefs or rebuttal briefs in this proceeding are encouraged to submit with each argument: (1) A statement of the issue; (2) a brief summary of the argument; and (3) a table of authorities.¹³ Case and rebuttal briefs should be filed using ACCESS.¹⁴

¹¹ See 19 CFR 351.309(c)(1)(ii).

¹² See 19 CFR 351.309(d)(1).

¹³ See 19 CFR 351.309(c)(2) and (d)(2).

¹⁴ See 19 CFR 351.303.

Interested parties who wish to request a hearing must submit a written request to the Assistant Secretary for Enforcement and Compliance within 30 days of the date of publication of this notice.¹⁵ Requests should contain: (1) The party's name, address and telephone number; (2) the number of participants; and (3) a list of issues parties intend to discuss. Issues raised in the hearing will be limited to those raised in the respective case and rebuttal briefs. If a request for a hearing is made, the Department intends to hold the hearing at the U.S. Department of Commerce, 1401 Constitution Avenue NW, Washington, DC 20230, at a date and time to be determined.¹⁶ Parties should confirm by telephone the date, time, and location of the hearing two days before the scheduled date.

¹⁵ See 19 CFR 351.310(c)

¹⁶ See 19 CFR 351.310(d).

Unless extended, the Department intends to issue the final results of this administrative review, which will include the results of our analysis of all issues raised in the case briefs, within 120 days of publication of these preliminary results in the Federal Register, pursuant to section 751(a)(3)(A) of the Act.

Assessment Rates

Upon issuance of the final results, the Department will determine, and U.S. Customs and Border Protection (CBP) shall assess, antidumping duties on all appropriate entries covered by this review.¹⁷ The Department intends to issue assessment instructions to CBP 15 days after the publication date of the final results of this review. We will instruct CBP to assess duties at the ad valorem margin rates published above. We will instruct CBP to assess antidumping duties on all appropriate entries covered by this review if any assessment rate calculated in the final results of this review is above de minimis. The final results of this review shall be the basis for the assessment of antidumping duties on entries of merchandise covered by the final results of this review and for future deposits of estimated duties, where applicable. The Department will assess duties only on entries of subject merchandise (i.e., Vietnam-origin steel nails).

¹⁷ See 19 CFR 351.212(b)(1).

Cash Deposit Requirements

The following cash deposit requirements will be effective upon publication of the final results of this administrative review for shipments of the subject merchandise from Vietnam entered, or withdrawn from warehouse, for consumption on or after the publication date, as provided by section 751(a)(2)(C) of the Act: (1) For Truong Vinh, Rich State, and Dicha Sombrilla, the cash deposit rate will be that established in the final results of this review (except, if the rate is zero or de minimis, then zero cash deposit will be required); (2) for previously investigated or reviewed Vietnam exporters not listed above that received a separate rate in a prior segment of this proceeding, the cash deposit rate will continue to be the existing exporter-specific rate published for the most recently completed period; (3) for all Vietnam exporters of subject merchandise that have not been found to be entitled to a separate rate, the cash deposit rate will be the NME-wide rate of 323.99 percent; and (4) for all non-Vietnam exporters of subject merchandise which have not received their own rate, the cash deposit rate will be the rate applicable to the Vietnam exporter that supplied that non-Vietnam exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act and 19 CFR 351.213.

Dated: May 24, 2017.
Ronald K. Lorentzen,
Acting Assistant Secretary for Enforcement and Compliance.

Appendix—List of Topics Discussed in the Preliminary Decision Memorandum

1. Summary

2. Background

3. Scope of the Order

4. Partial Rescission of Administrative Review

5. Discussion of the Methodology

6. Vietnam-Wide Entity

7. Recommendation

[FR Doc. 2017-11668 Filed 6-5-17; 8:45 am]

BILLING CODE 3510-DS-P